DEPARTMENT OF HEALTH AND HUMAN SERVICES

Centers for Disease Control and Prevention

[60Day-15-15NS]

Proposed Data Collections Submitted for Public Comment and Recommendations

The Centers for Disease Control and Prevention (CDC), as part of its continuing effort to reduce public burden and maximize the utility of government information, invites the general public and other Federal agencies to take this opportunity to comment on proposed and/or continuing information collections, as required by the Paperwork Reduction Act of 1995. To request more information on the below proposed project or to obtain a copy of the information collection plan and instruments, call 404-639-7570 or send comments to Leroy A. Richardson, 1600 Clifton Road, MS-D74, Atlanta, GA 30333 or send an email to omb@cdc.gov.

Comments submitted in response to this notice will be summarized and/or included in the request for Office of Management and Budget (OMB) approval. Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information. Written comments should be received within 60 days of this notice.

Proposed Project

CDC Prevention Status Reports: Non-Government User Satisfaction and Impact—New—Office for State, Tribal Local and Territorial Support (OSTLTS), Centers for Disease Control and Prevention (CDC).

Background and Brief Description

In 2011, CDC Director Dr. Thomas R. Frieden commissioned OSTLTS with creating and disseminating the Prevention Status Reports (PSRs). The PSRs highlight the status of public health policies and practices designed to prevent or reduce ten important public health problems and concerns, including Excessive Alcohol Use; Food Safety; Healthcare-Associated Infections; Heart Disease and Stroke; HIV; Motor Vehicle Injuries, Nutrition; Physical Activity, and Obesity; Prescription Drug Overdose, Teen Pregnancy, and Tobacco Use.

CDC is requesting a three-year approval for a generic clearance to conduct a one-time assessment of non-governmental recipients and users of the PSRs, to determine its reach, usefulness, and impact. The goal of the assessment is to determine the extent to which the PSRs support planning and decision-making about strategies to improve public health and lead to specific actions intended to increase the use of evidence-based and expert-recommended public health policies and practices. Based on findings from the data collection, OSTLTS may make additional modifications to the PSRs, augment the PSRs with additional supporting products, and/or enhance communication and dissemination efforts. Data will be collected through a web-based questionnaire. An email invitation with a link to the online questionnaire will be sent to a convenience sample consisting of: (1) Randomly selected subscribers to PSR email updates and (2) staff from key non-governmental partner organizations that were targeted by CDC for the initial public dissemination of the PSRs in January 2014. The invitation will be sent to a total of 1,995 potential respondents.

Prior assessments of the PSRs have been conducted of governmental staff only. Non-government staffs are also critical stakeholders and users of the PSRs. Their input is necessary to ensure a complete and accurate assessment of the PSRs from the perspective of all potential users.

Assessment data will ultimately be used to understand the extent PSR recipients report that they are satisfied with the quality of the PSRs and actions they are taking to advance evidence-based and expert-recommended policies and practices due to the PSRs. For example, it is unknown to what extent the PSRs are being used to support planning and decision-making about public health priorities and whether or not modifications would make them more useful. Findings will also be used to develop manuscripts to submit for publication in peer-reviewed journals focused on assessment and public health practice. For example, user descriptions of how the PSRs are being used effectively to stimulate efforts to improve public health policies and practices would be important information to share with the public health field. There is no cost to participants other than their time. The estimated annualized burden hours for this data collection activity are 499 hours.

Estimated Annualized Burden Hours
Type of respondents | Form name | Number of respondents | Number of responses per respondent | Avgerage burden per response (in hrs.) | Total burden (in hrs.)
Non-government PSR recipients | PSR Online Assessment | 1,995 | 1 | 15/60 | 499
Total |  |  |  |  | 499

Leroy A. Richardson,
Chief, Information Collection Review Office, Office of Scientific Integrity, Office of the Associate Director for Science, Office of the Director, Centers for Disease Control and Prevention.

[FR Doc. 2015-03247 Filed 2-17-15; 8:45 am]

BILLING CODE 4163-18-P